INTERNATIONAL TRADE COMMISSION

[Investigation Nos. 731-TA-1369-1372 (Final)]

Fine Denier Polyester Staple Fiber From China, India, Korea, and Taiwan; Determinations

On the basis of the record ¹ developed in the subject investigations, the United States International Trade Commission (“Commission”) determines, pursuant to the Tariff Act of 1930 (“the Act”), that an industry in the United States is materially injured by reason of imports of fine denier polyester staple fiber (“fine denier PSF”) from China, India, Korea, and Taiwan that have been found by the U.S. Department of Commerce (“Commerce”) to be sold in the United States at less than fair value (“LTFV”).2 3

¹ The record is defined in sec. 207.2(f) of the Commission's Rules of Practice and Procedure (19 CFR 207.2(f)).

² Fine Denier Polyester Staple Fiber From the People's Republic of China: Final Affirmative Determination of Sales at Less Than Fair Value, 83 FR 24740, May 30, 2018; Fine Denier Polyester Staple Fiber From India: Final Affirmative Determination of Sales at Less Than Fair Value, 83 FR 24737, May 30, 2018; Fine Denier Polyester Staple Fiber From the Republic of Korea: Final Affirmative Determination of Sales at Less Than Fair Value, 83 FR 24743, May 30, 2018; and Fine Denier Polyester Staple Fiber From Taiwan: Final Affirmative Determination of Sales at Less Than Fair Value, 83 FR 24745, May 30, 2018.

³ Commissioner Jason E. Kearns did not participate in these investigations.

Background

The Commission, pursuant to section 735(b) of the Act (19 U.S.C. 1673d(b)), instituted these investigations effective May 31, 2017, following receipt of a petition filed with the Commission and Commerce by DAK Americas LLC, Charlotte, NC; Nan Ya Plastics Corporation, America, Lake City, SC; and Auriga Polymers Inc., Charlotte, NC. Effective November 6, 2017, the Commission established a general schedule for the conduct of the final phase of its investigations on fine denier PSF, following preliminary determinations by Commerce that imports of the subject fine denier PSF were subsidized by the governments of China and India. Notice of the scheduling of the final phase of the Commission's investigations and of a public hearing to be held in connection therewith was given by posting copies of the notice in the Office of the Secretary, U.S. International Trade Commission, Washington, DC, and by publishing the notice in the Federal Register of November 27, 2017 (82 FR 56050). The hearing was held in Washington, DC, on January 17, 2018, and all persons who requested the opportunity were permitted to appear in person or by counsel. Following notification of final determinations by Commerce that imports of fine denier PSF from China, India, Korea, and Taiwan were being sold at LTFV within the meaning of section 735(b) of the Act (19 U.S.C. 1673d(a)), notice of the supplemental scheduling of the final phase of the Commission's antidumping duty investigations was given by posting copies of the notice in the Office of the Secretary, U.S. International Trade Commission, Washington, DC, and by publishing the notice in the Federal Register of June 6, 2018 (83 FR 26308).

The Commission made these determinations pursuant to section 735(b) of the Act (19 U.S.C. 1673d(b)). It completed and filed its determinations in these investigations on July 13, 2018. The views of the Commission are contained in USITC Publication 4803 (July 2018), entitled Fine Denier Polyester Staple Fiber from China, India, Korea, and Taiwan: Investigation Nos. 731-TA-1369-1372 (Final).

By order of the Commission.
Issued: July 13, 2018.
Lisa Barton,
Secretary to the Commission.

[FR Doc. 2018-15356 Filed 7-18-18; 8:45 am]

BILLING CODE 7020-02-P